DEPARTMENT OF THE INTERIOR

National Park Service

[NPS-WASO-NAGPRA-NPS0033848; PPWOCRADN0-PCU00RP14.R50000]

Notice of Intent To Repatriate Cultural Items: History Fort Lauderdale (Formerly Fort Lauderdale Historical Society), Fort Lauderdale, FL

AGENCY: National Park Service, Interior.

ACTION: Notice.

SUMMARY: History Fort Lauderdale, in consultation with the appropriate Indian Tribes or Native Hawaiian organizations, has determined that the cultural items listed in this notice meet the definition of objects of cultural patrimony. Lineal descendants or representatives of any Indian Tribe or Native Hawaiian organization not identified in this notice that wish to claim these cultural items should submit a written request to History Fort Lauderdale. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to History Fort Lauderdale at the address in this notice by June 8, 2022.

FOR FURTHER INFORMATION CONTACT: Tara Chadwick, History Fort Lauderdale, 219 SW 2nd Avenue, Fort Lauderdale, FL 33301, telephone (954) 463-4431, email tchadwick@flhc.org.

SUPPLEMENTARY INFORMATION: Notice is here given in accordance with the Native American Graves Protection and Repatriation Act (NAGPRA), 25 U.S.C. 3005, of the intent to repatriate cultural items under the control of History Fort Lauderdale, Fort Lauderdale, FL, that meet the definition of objects of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1980, Frederick Anderson donated three lithic projectile points with a Michigan provenience to the Fort Lauderdale Historical Society (History Fort Lauderdale). In 2021, History Fort Lauderdale was contacted by the Tribal Historic Preservation Officer for the Bay Mills Indian Community, Michigan. According to information provided by the Bay Mills Indian Community, these projectile points are considered a sacred symbol of the Tribe's cultural identity. Based on consultation information provided by the Bay Mills Indian Community, History Fort Lauderdale has determined that these lithic items meet the definition of objects of cultural patrimony.

Determinations Made by History Fort Lauderdale

Officials of History Fort Lauderdale have determined that:

• Pursuant to 25 U.S.C. 3001(3)(D), the three cultural items described above have ongoing historical, traditional, or cultural importance central to the Native American group or culture itself, rather than property owned by an individual.

• Pursuant to 25 U.S.C. 3001(2), there is a relationship of shared group identity that can be reasonably traced between the objects of cultural patrimony and the Bay Mills Indian Community, Michigan.

Additional Requestors and Disposition

Lineal descendants or representatives of any Indian Tribe or Native Hawaiian organization not identified in this notice that wish to claim these cultural items should submit a written request with information in support of the claim to Tara Chadwick, History Fort Lauderdale, 219 SW 2nd Avenue, Fort Lauderdale, FL 33301, telephone (954) 463-4431, email tchadwick@flhc.org, by June 8, 2022. After that date, if no additional claimants have come forward, transfer of control of the Bay Mills Indian Community, Michigan may proceed.

The History Fort Lauderdale is responsible for notifying the Bay Mills Indian Community, Michigan that this notice has been published.

Dated: April 27, 2022.
Melanie O'Brien,
Manager, National NAGPRA Program.

[FR Doc. 2022-09894 Filed 5-6-22; 8:45 am]

BILLING CODE 4312-52-P